NUCLEAR REGULATORY COMMISSION

State of Rhode Island Relinquishment of Sealed Source and Device Evaluation and Approval Authority and Assumption by the Nuclear Regulatory Commission

AGENCY: Nuclear Regulatory Commission.

ACTION: Notice of assumption by the Nuclear Regulatory Commission of Sealed Source and Device Evaluation and approval authority from the State of Rhode Island.

SUMMARY: Notice is hereby given that effective July 1, 2006, the Nuclear Regulatory Commission will assume regulatory authority for sealed source and device evaluations and approvals in the State of Rhode Island in response to a request from the Governor of the State of Rhode Island to relinquish this authority.

DATES: Effective Date: July 1, 2006.

FOR FURTHER INFORMATION CONTACT: Ms. Jennifer C. Tobin, Health Physicist, Office of State and Tribal Programs, U.S. Nuclear Regulatory Commission, Washington, DC 20555-0001, telephone (301) 415-2328, Internet: JCT1@NRC.GOV.

SUPPLEMENTARY INFORMATION: Currently, the State of Rhode Island has an Agreement with the Nuclear Regulatory Commission (NRC) which recognizes the State authority to regulate specific categories of radioactive materials formerly regulated by the NRC. This Agreement was entered into on January 1, 1980, pursuant to Section 274b of the Atomic Energy Act of 1954, as amended.

Recently, the NRC received a letter from Rhode Island Governor Donald L. Carcieri (May 16, 2006) requesting relinquishment of the State's authority to evaluate and approve sealed source and devices, and assumption of this authority by NRC. The requested action would involve assumption of regulatory authority by NRC over activities currently regulated by Rhode Island pursuant to its Agreement with NRC.

The Governor of Rhode Island noted there is one manufacturer in the State and there has been no sealed source and device evaluations conducted since 2001. Governor Carcieri indicated that it would not be cost effective to fund and maintain staff to conduct sealed source and device evaluations.

The Commission has agreed to the request and has notified Rhode Island that effective July 1, 2006, the NRC will reassume authority to evaluate and approve sealed source and device applications within the State of Rhode Island. The State of Rhode Island will retain authority to regulate the manufacture and use of sealed sources and devices within the State in accordance with its Section 274b. Agreement with the NRC.

Dated at Rockville, Maryland this 27th day of June, 2006.
For the Nuclear Regulatory Commission.
Annette L. Vietti-Cook,
Secretary of the Commission.

[FR Doc. E6-10424 Filed 7-3-06; 8:45 am]

BILLING CODE 7590-01-P